DEPARTMENT OF COMMERCE

Foreign-Trade Zones Board

[Order No. 1635]

Approval for Manufacturing Authority, Foreign-Trade Zone 122, Excalibar Minerals, LLC (Barite Milling), Corpus Christi, Texas

Pursuant to its authority under the Foreign-Trade Zones Act of June 18, 1934, as amended (19 U.S.C. 81a-81u), the Foreign-Trade Zones Board (the Board) adopts the following Order:

Whereas, the Port of Corpus Christi Authority, grantee of Foreign-Trade Zone 122, has requested manufacturing authority on behalf of Excalibar Minerals, LLC (Excalibar), within FTZ 122 in Corpus Christi, Texas, (FTZ Docket 2-2009, filed 01/29/2009);

Whereas, notice inviting public comment has been given in the Federal Register (74 FR 6134, 02/05/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 122 on behalf of Excalibar, as described in the application and Federal Register notice, is approved, subject to the FTZ Act and the Board's regulations, including Section 400.28.

Signed at Washington, DC, this 5th day of August 2009.

Ronald K. Lorentzen,
Acting Assistant Secretary of Commerce for Import Administration, Alternate Chairman, Foreign-Trade Zones Board.
Attest:
Andrew McGilvray,
Executive Secretary.

[FR Doc. E9-19667 Filed 8-14-09; 8:45 am]

BILLING CODE 3510-DS-S